DEPARTMENT OF ENERGY

Federal Energy Regulatory Commission

Combined Notice of Filings #2

Take notice that the Commission received the following exempt wholesale generator filings:

Docket Numbers: ER26-820-000.

Applicants: Southwestern Public Service Company.

Description: § 205(d) Rate Filing: SPS-LEA-Plains 2nd Txfrmr-Const & Own-760-0.0.0 to be effective 2/17/2026.

Filed Date: 12/19/25.

Accession Number: 20251219-5196.

Comment Date: 5 p.m. ET 1/9/26.

Docket Numbers: ER26-821-000.

Applicants: Southwest Power Pool, Inc.

Description: § 205(d) Rate Filing: Revisions to Attachment AF Regarding Offers Less than $25/MWh to be effective 12/31/9998.

Filed Date: 12/19/25.

Accession Number: 20251219-5243.

Comment Date: 5 p.m. ET 1/9/26.

Docket Numbers: ER26-822-000.

Applicants: BP Energy Company.

Description: § 205(d) Rate Filing: Category 1 Status Filing to be effective 12/20/2025.

Filed Date: 12/19/25.

Accession Number: 20251219-5249.

Comment Date: 5 p.m. ET 1/9/26.

Docket Numbers: ER26-823-000.

Applicants: BP Energy Retail Company LLC.

Description: § 205(d) Rate Filing: Category 1 Status Filing to be effective 12/20/2025.

Filed Date: 12/19/25.

Accession Number: 20251219-5251.

Comment Date: 5 p.m. ET 1/9/26.

Docket Numbers: ER26-824-000.

Applicants: BP Energy Retail Company California LLC.

Description: § 205(d) Rate Filing: Category 1 Status Filing to be effective 12/20/2025.

Filed Date: 12/19/25.

Accession Number: 20251219-5252.

Comment Date: 5 p.m. ET 1/9/26.

Docket Numbers: ER26-825-000.

Applicants: Southwest Power Pool, Inc..

Description: § 205(d) Rate Filing: 4591 Transource Oklahoma & AEP Oklahoma Transmission Int Agr to be effective 12/20/2025.

Filed Date: 12/19/25.

Accession Number: 20251219-5260.

Comment Date: 5 p.m. ET 1/9/26.

Docket Numbers: ER26-826-000.

Applicants: Southwest Power Pool, Inc..

Description: § 205(d) Rate Filing: 4592 Transource Oklahoma and OG&E Interconnection Agreement to be effective 12/20/2025.

Filed Date: 12/19/25.

Accession Number: 20251219-5272.

Comment Date: 5 p.m. ET 1/9/26.

Docket Numbers: ER26-827-000.

Applicants: Midcontinent Independent System Operator, Inc., American Transmission Company LLC.

Description: § 205(d) Rate Filing: American Transmission Company LLC submits tariff filing per 35.13(a)(2)(iii: 2025-12-19_ATC Request for Depreciation Rates to be effective 1/1/2026.

Filed Date: 12/19/25.

Accession Number: 20251219-5279.

Comment Date: 5 p.m. ET 1/9/26.

Docket Numbers: ER26-828-000.

Applicants: Tucson Electric Power Company.

Description: § 205(d) Rate Filing: Service Agreement No. 615 to be effective 12/22/2025.

Filed Date: 12/19/25.

Accession Number: 20251219-5295.

Comment Date: 5 p.m. ET 1/9/26.

Docket Numbers: ER26-829-000.

Applicants: Tucson Electric Power Company.

Description: § 205(d) Rate Filing: Service Agreement No. 616 to be effective 12/22/2025.

Filed Date: 12/19/25.

Accession Number: 20251219-5319.

Comment Date: 5 p.m. ET 1/9/26.

Docket Numbers: ER26-830-000.

Applicants: Cheyenne Light, Fuel and Power Company.

Description: Initial rate filing: Balancing Authority Agreement with Black Hills to be effective 4/1/2026.

Filed Date: 12/19/25.

Accession Number: 20251219-5336.

Comment Date: 5 p.m. ET 1/9/26.

Docket Numbers: ER26-831-000.

Applicants: Cheyenne Light, Fuel and Power Company.

Description: Initial rate filing: Sub-Entity Reserve Sharing Agreement with Black Hills Power to be effective 4/1/2026.

Filed Date: 12/19/25.

Accession Number: 20251219-5346.

Comment Date: 5 p.m. ET 1/9/26.

Docket Numbers: ER26-832-000.

Applicants: Southwest Power Pool, Inc.

Description: § 205(d) Rate Filing: Revisions to Create Quarterly Operating Limits to be effective 3/1/2026.

Filed Date: 12/19/25.

Accession Number: 20251219-5353.

Comment Date: 5 p.m. ET 1/9/26.

Docket Numbers: ER26-833-000.

Applicants: Southwestern Public Service Company, Southwest Power Pool, Inc.

Description: § 205(d) Rate Filing: Southwestern Public Service Company submits tariff filing per 35.13(a)(2)(iii: 4593 Travertine Solar & SPS Facilities Service Agreement to be effective 2/18/2026.

Filed Date: 12/19/25.

Accession Number: 20251219-5375.

Comment Date: 5 p.m. ET 1/9/26.

Docket Numbers: ER26-834-000.

Applicants: Public Service Company of Colorado.

Description: § 205(d) Rate Filing: 2025-12-19 Amnd PLGIA-879 to be effective 12/20/2025.

Filed Date: 12/19/25.

Accession Number: 20251219-5379.

Comment Date: 5 p.m. ET 1/9/26.

Docket Numbers: ER26-835-000.

Applicants: Public Service Company of Colorado.

Description: § 205(d) Rate Filing: 2025-12-19 Amnd PLGIA-861 to be effective 12/20/2025.

Filed Date: 12/19/25.

Accession Number: 20251219-5381.

Comment Date: 5 p.m. ET 1/9/26.

Docket Numbers: ER26-836-000.

Applicants: Public Service Company of Colorado.

Description: § 205(d) Rate Filing: 2025-12-19 Amnd PLGIA-837 to be effective 12/20/2025.

Filed Date: 12/19/25.

Accession Number: 20251219-5384.

Comment Date: 5 p.m. ET 1/9/26.

Docket Numbers: ER26-837-000.

Applicants: Public Service Company of Colorado.

Description: § 205(d) Rate Filing: 2025-12-19 Amnd PLGIA-835 to be effective 12/20/2025.

Filed Date: 12/19/25.

Accession Number: 20251219-5389.

Comment Date: 5 p.m. ET 1/9/26.

Docket Numbers: ER26-838-000.

Applicants: Commonwealth Edison Company.

Description: § 205(d) Rate Filing: Filing of TSA between ComEd and Aligned to be effective 2/18/2026.

Filed Date: 12/19/25.

Accession Number: 20251219-5425.

Comment Date: 5 p.m. ET 1/9/26.

Docket Numbers: ER26-839-000.

Applicants: Commonwealth Edison Company.

Description: § 205(d) Rate Filing: Filing of TSA between ComEd and Monarch to be effective 2/18/2026.

Filed Date: 12/19/25.

Accession Number: 20251219-5429.

Comment Date: 5 p.m. ET 1/9/26.

Docket Numbers: ER26-840-000.

Applicants: Leaning Juniper Wind Power II LLC, Bracewell LLP.

Description: § 205(d) Rate Filing: Leaning Juniper Wind Power II LLC submits tariff filing per 35.13(a)(2)(iii: Common Facilities Ownership and Use Agreement to be effective 11/19/2025.

Filed Date: 12/19/25.

Accession Number: 20251219-5434.

Comment Date: 5 p.m. ET 1/9/26.

Docket Numbers: ER26-841-000.

Applicants: Commonwealth Edison Company.

Description: § 205(d) Rate Filing: Filing of TSA between ComEd and Red Energy to be effective 2/18/2026.

Filed Date: 12/19/25.

Accession Number: 20251219-5437.

Comment Date: 5 p.m. ET 1/9/26.

Docket Numbers: ER26-842-000.

Applicants: Leaning Juniper 2B, LLC, Bracewell LLP.

Description: Initial Rate Filing: Leaning Juniper 2B, LLC submits tariff filing per 35.12: Certificate of Concurrence—Common Facilities Ownership and Use Agreement to be effective 12/19/2025.

Filed Date: 12/19/25.

Accession Number: 20251219-5454.

Comment Date: 5 p.m. ET 1/9/26.

Docket Numbers: ER26-843-000.

Applicants: Southwest Power Pool, Inc..

Description: Tariff Amendment: 3860 Deuel Harvest & WAPA Affected Systems FCA Cancellation to be effective 12/17/2022.

Filed Date: 12/19/25.

Accession Number: 20251219-5488.

Comment Date: 5 p.m. ET 1/9/26.

Docket Numbers: ER26-844-000.

Applicants: New York Independent System Operator, Inc.

Description: § 205(d) Rate Filing: NYISO 205: Market Bidding Requirements for ESRs, Aggregations, and DERs to be effective 2/18/2026.

Filed Date: 12/19/25.

Accession Number: 20251219-5511.

Comment Date: 5 p.m. ET 1/9/26.

Docket Numbers: ER26-845-000.

Applicants: Sidney, LLC.

Description: Tariff Amendment: Notice of Cancellation of Reactive Rate Schedule to be effective 10/28/2025.

Filed Date: 12/19/25.

Accession Number: 20251219-5515.

Comment Date: 5 p.m. ET 1/9/26.

Docket Numbers: ER26-846-000.

Applicants: PJM Interconnection, L.L.C.

Description: § 205(d) Rate Filing: Economic Load Response Regulation Only Participants Proposal to be effective 2/17/2026.

Filed Date: 12/19/25.

Accession Number: 20251219-5527.

Comment Date: 5 p.m. ET 1/9/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: December 19, 2025.
Debbie-Anne A. Reese,
Secretary.

[FR Doc. 2025-23950 Filed 12-29-25; 8:45 am]

BILLING CODE 6717-01-P